DEPARTMENT OF TRANSPORTATION

Federal Transit Administration

49 CFR Part 602

[Docket No. FTA-2025-0012]

RIN 2132-AB61

Emergency Relief Program

AGENCY: Federal Transit Administration (FTA), Department of Transportation (DOT).

ACTION: Notice of proposed rulemaking (NPRM).

SUMMARY: FTA proposes to reduce the regulatory burden on grant recipients by extending the baseline period to establish a waiver of certain administrative requirements related to FTA's Public Transportation Emergency Relief Program.

DATES: Comments should be filed by September 2, 2025. FTA will consider comments received after that date to the extent practicable.

ADDRESSES: You may send comments, identified by docket number FTA-2025-0012 by any of the following methods:

• Federal Rulemaking Portal: https://www.regulations.gov. Follow the instructions for sending comments.

• Fax: (202) 493-2251.

• Mail: Docket Management Facility, U.S. Department of Transportation, 1200 New Jersey Avenue SE, West Building Ground Floor, Room W12-140, Washington, DC 20590-0001.

• Hand Delivery/Courier: West Building Ground Floor, Room W12-140, 1200 New Jersey Avenue SE, Washington, DC, between 9 a.m. and 5 p.m. ET, Monday through Friday, except Federal holidays.

Instructions: All submissions received must include the agency name and docket number or Regulatory Information Number (RIN) for this rulemaking. All comments received will be posted without change to https://www.regulations.gov, including any personal information provided.

Docket: For access to the docket to read background documents or comments received, go to https://www.regulations.gov. Background documents and comments received may also be viewed at the U.S. Department of Transportation, 1200 New Jersey Ave. SE, Docket Operations, M-30, West Building Ground Floor, Room W12-140, Washington, DC 20590-0001, between 9 a.m. and 5 p.m. EST, Monday through Friday, except Federal holidays.

FOR FURTHER INFORMATION CONTACT: For program matters, contact Thomas Wilson, Office of Program Management, telephone at (202) 366-5279 or thomas.wilson@dot.gov. For legal matters, contact Diane Alexander, Attorney-Advisor, FTA, telephone at 202-366-3101 or diane.alexander@dot.gov. Office hours are from 8:30 a.m. to 5 p.m., Monday through Friday, except Federal holidays.

SUPPLEMENTARY INFORMATION:

I. Background

Under Section 20017 of The Moving Ahead for Progress in the 21st Century Act (MAP-21, Pub. L. 112-141) (2012), codified at 49 U.S.C. 5324, Congress authorized FTA to establish and implement the Public Transportation Emergency Relief Program (the Program). The Program allows FTA to make grants for eligible public transportation capital and operating costs in the event of a catastrophic event, such as a natural disaster, that affects a wide area, as a result of the Governor of a State declaring an emergency and the Secretary of Transportation concurring, or the President declaring a major disaster under section 401 of the Robert T. Stafford Disaster Relief and Emergency Assistance Act (Stafford Act, 42 U.S.C. 5170). On March 29, 2013, FTA published an interim final rule implementing this statutory requirement and request for comments (78 FR 19136). On October 7, 2014, FTA published a final rule establishing procedures governing the implementation of FTA's Public Transportation Emergency Relief Program (79 FR 60349).

After more than 10 years of administering the Program, FTA proposes to reduce the regulatory burden on grant recipients to align with actual practice and extend the baseline time period for a waiver from certain administrative requirements.

II. Discussion of Major Changes

To reduce the burden for grant recipients, FTA proposes to modify section 602.15(b)(2) to establish a longer baseline time period within which grant recipients can qualify for a waiver of certain administrative requirements in order to obtain emergency relief funding. Currently, section 602.15(b)(2) establishes 45 days as the baseline time period for which FTA can determine whether certain FTA grant requirements, the requirements for E.O. 11988 floodplain analysis, and the labor protection requirements at 49 U.S.C. 5333(b) are waived. As stated in the March 29, 2013, interim final rule (78 FR 19140) and the October 7, 2014, final rule (79 FR 60355-56, 60357), FTA may waive these requirements as necessary and appropriate for emergency repairs, permanent repairs, and emergency operating expenses.

FTA proposes to modify section 602.15(b)(2) to extend the baseline time period to 90 days to align the regulatory text with existing practice and reduce the regulatory burden on grant recipients. In the October 7, 2014, final rule, FTA justified establishing the 45-daybaseline time period to align with FTA's charter service rule at 49 CFR 604.2(f) (79 FR 60356). However, after administering the program for more than 10 years, FTA has determined this is an insufficient period of time to address emergencies in practice and it has frequently extended the time period to 90 days or longer, during prior emergency events.

Based on the foregoing, and to ensure consistency with Administration priorities, including E.O. 14192 (“Unleashing Prosperity Through Deregulation”), FTA seeks to implement this deregulatory action.

III. Regulatory Analyses and Notices

A. E.O.s 12866 and 13563 (Regulatory Review)

E.O. 12866 (“Regulatory Planning and Review”), as supplemented by E.O. 13563 (“Improving Regulation and Regulatory Review”), directs Federal agencies to assess the benefits and costs of regulations, to select regulatory approaches that maximize net benefits when possible, and to consider economic, environmental, and distributional effects. This action does not meet the criteria of a “significant regulatory action.” Therefore, the Office of Management and Budget (OMB) has not reviewed this action.

The proposed rule would increase the waiver period during eligible emergencies to align with current FTA practice as FTA has consistently extended the period to 90 days or longer during prior events. Although the proposed rule would not change existing practices for recipients, it would allow recipients greater predictability in planning for emergencies by ensuring that the regulation aligns with historical FTA practice and accordingly would have minor, unquantified cost savings.

B. E.O. 14192 (Deregulatory Action)

E.O. 14192 (“Unleashing Prosperity Through Deregulation”) requires that for “each new [E.O. 14192 regulatory action] issued, at least ten prior regulations be identified for elimination.” Implementation Guidance for E.O. 14192, issued by OMB (Memorandum M-25-20, March 25, 2025) defines an E.O. 14192 deregulatory action as “an action that has been finalized and has total costs less than zero.”

This proposed rule, if finalized, is expected to have total costs less than zero, and therefore is expected to be an E.O. 14192 deregulatory action.

C. Regulatory Flexibility Act

The Regulatory Flexibility Act of 1980 (5 U.S.C. 601 et seq.) requires Federal agencies to assess the impact of a regulation on small entities unless the agency determines the regulation is not expected to have a significant economic impact on a substantial number of small entities. Under the Act, public-sector organizations and local governments qualify as small entities if they serve a population of less than 50,000. This proposed rule does would not create an economic impact; rather, this proposed rule would reduce regulatory burden by extending the baseline time period within which the FTA Administrator can waive certain administrative requirements for grant recipients. For this reason, FTA certifies this action will not have a significant economic impact on a substantial number of small entities.

D. Unfunded Mandates Reform Act of 1995

This final rule will not impose unfunded mandates as defined by the Unfunded Mandates Reform Act of 1995 (Pub. L. 104-4, March 22, 1995, 109 Stat. 48). This rule does not include a Federal mandate that may result in expenditures of $100 million or more in any one year, adjusted for inflation, by State, local, and tribal governments in the aggregate or by the private sector.

E. E.O. 13132 (Federalism Assessment)

E.O. 13132 (“Federalism”) requires agencies to assure meaningful and timely input by State and local officials in the development of regulatory policies that may have a substantial direct effect on the States, on the relationship between the national government and the States, or on the distribution of power and responsibilities among the various levels of government. This action has been analyzed in accordance with the principles and criteria contained in E.O. 13132 dated August 4, 1999, and FTA determined this action would not have sufficient Federalism implications to warrant the preparation of a Federalism assessment. FTA also determined this action will not preempt any State law or regulation or affect the States' ability to discharge traditional State governmental functions.

F. Paperwork Reduction Act

Federal agencies must obtain approval from the Office of Management and Budget (OMB) for each collection of information they conduct, sponsor, or require through regulations. FTA has analyzed this rule under the Paperwork Reduction Act and believes it does not impose additional information collection requirements for the purposes of the Act above and beyond existing information collection clearances from OMB.

G. National Environmental Policy Act

FTA has analyzed this rule for the purposes of the National Environmental Policy Act of 1969 (NEPA). In accordance with 42 U.S.C. 4336 and DOT NEPA Order 5610.1C, FTA has determined that this rule is categorically excluded pursuant to 23 CFR 771.118(c)(4), “[p]lanning and administrative activities that do not involve or lead directly to construction, such as: [p]romulgation of rules, regulations, and directives.” This rulemaking is not anticipated to result in any environmental impacts, and there are no unusual or extraordinary circumstances present in connection with this rulemaking.

H. E.O. 13175 (Tribal Consultation)

FTA has analyzed this rule under E.O. 13175 (“Consultation and Coordination with Indian Tribal Governments”) and it will not have substantial direct effects on one or more Indian tribes; will not impose substantial direct compliance costs on Indian tribal governments; and will not preempt tribal laws. Therefore, a tribal summary impact statement is not required.

I. E.O. 13211 (Energy Effects)

FTA has analyzed this action under E.O. 13211 (“Actions Concerning Regulations That Significantly Affect Energy Supply, Distribution, or Use”). FTA has determined this action is not a significant energy action under that order and is not likely to have a significant adverse effect on the supply, distribution, or use of energy. Therefore, a Statement of Energy Effects is not required.

J. Privacy Act

Anyone can search the electronic form of all comments received into any of our dockets by the name of the individual submitting the comment (or signing the comment, if submitted on behalf of an association, business, labor union, etc.). You may review U.S. DOT's complete Privacy Act Statement in the Federal Register published on April 11, 2000 (65 FR 19477).

K. Regulation Identifier Number (RIN)

A Regulation Identifier Number (RIN) is assigned to each regulatory action listed in the Unified Agenda of Federal Regulations. The Regulatory Information Service Center publishes the Unified Agenda in April and October of each year. The RIN number contained in the heading of this document can be used to cross-reference this rule with the Unified Agenda.

List of Subjects in 49 CFR Part 602

Disaster assistance, Grant programs-transportation, Mass transportation, Transportation.

For the reasons stated in the preamble, FTA proposes to amend title 49, Code of Federal Regulations, part 602, as set forth below:

PART 602—EMERGENCY RELIEF

1. The authority citation for part 602 continues to read as follows:

Authority: 49 U.S.C. 5324 and 5334; 49 CFR 1.91.

2. Amend Section 602.15 by revising paragraph (b)(2) to read as follows:

§ 602.15 Grant requirements.

(a) * * *

(b) * * *

(2) The FTA Administrator may determine certain requirements associated with public transportation programs are inapplicable as necessary and appropriate for emergency repairs, permanent repairs, emergency protective measures and emergency operating expenses incurred within 90 days of the emergency or major disaster, or longer as determined by FTA. If the FTA Administrator determines any requirement is inapplicable, the determination shall apply to all eligible activities undertaken with funds authorized under 49 U.S.C. 5324, as well as funds authorized under 49 U.S.C. 5307 and 5311 and used for eligible emergency relief activities.

* * * * *

Issued in Washington, DC, under authority delegated in 49 CFR 1.91.
Tariq Bokhari,
Acting Administrator.

[FR Doc. 2025-12248 Filed 6-27-25; 4:15 pm]

BILLING CODE 4910-57-P